DEPARTMENT OF EDUCATION

Privacy Act of 1974; System of Records—Impact Evaluation of Race to the Top and School Improvement Grants

AGENCY: Institute of Education Sciences, Department of Education.

ACTION: Notice; correction.

SUMMARY: On October 12, 2012, the Institute of Education Sciences in the U.S. Department of Education (Department) published in the Federal Register (77 FR 62228) a new system of records notice (SORN) entitled “Impact Evaluation of Race to the Top and School Improvement Grants” (18-13-32) (RTT-SIG). This notice corrects one error in terminology in the RTT-SIG SORN.

DATES: Effective November 16, 2012.

SUPPLEMENTARY INFORMATION: On page 62230 of the RTT-SIG SORN, in the second column, under the heading the ROUTINE USES OF RECORDS MAINTAINTED IN THE SYSTEM, INCLUDING CATEGORIES OF USERS AND THE PURPOSE OF SUCH USES, in the last sentence of the introductory paragraph, we correct the phrase “individually identifying information” to read “personally identifiable information”.

FOR FURTHER INFORMATION CONTACT: Dr. Audrey Pendleton, Associate Commissioner, Evaluation Division, National Center for Education Evaluation and Regional Assistance, Institute of Education Sciences, U.S. Department of Education, 555 New Jersey Avenue NW., Room 502D, Washington, DC 20208-0001. Telephone: (202) 208-7078.

If you use a telecommunications device for the deaf (TDD) or text telephone (TTY), call the Federal Relay Service (FRS), toll free, at 1-800-877-8339.

Accessible format: Individuals with disabilities can obtain this document in an accessible format (e.g., braille, large print, audiotape, or compact disc) on request to the person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: November 9, 2012.
John Q. Easton,
Director, Institute of Education Sciences.

[FR Doc. 2012-27845 Filed 11-15-12; 8:45 am]

BILLING CODE 4000-01-P